DEPARTMENT OF ENERGY

Federal Energy Regulatory Commission

[Project No. 9100-040]

Riverdale Power and Electric Company, Inc.; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 9100-040.

c. Date filed: April 27, 2017.

d. Applicant: Riverdale Power and Electric Company, Inc. (Riverdale Power).

e. Name of Project: Riverdale Mills Project.

f. Location: On the Blackstone River in Worcester County, Massachusetts. There are no federal or tribal lands within the project boundary.

g. Filed Pursuant to: Federal Power Act 16 U.S.C. 791(a)-825(r).

h. Applicant Contact: Mr. Kevin Young, Young Energy Services, LLC, 2112 Talmage Drive, Leland, NC 28451; (617) 645-3658.

i. FERC Contact: Michael Watts, 202-502-6123 or michael.watts@ferc.gov.

j. Deadline for filing motions to intervene and protests, comments, recommendations, terms and conditions, and prescriptions: 60 Days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-9100-040.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis. However, site-specific water quality data has not been filed with the Commission in accordance with Commission staff's February 2, 2018 letter addressing the Massachusetts Department of Environmental Protection's study request. Therefore, the Commission's analysis of water quality will rely on the best currently available information which may be supplemented later in the relicensing process.

l. The existing Riverdale Mills Project consists of: (1) A 142-foot-long, 14-foot-high concrete and steel dam that includes a spillway that contains five 22-foot-wide, 7.5-foot-high stanchion bays with stop-logs, and one 22-foot-wide, 7.5-foot-high hydraulically-operated spillway gate; (2) a 22 acre impoundment with a normal maximum elevation of 262.35 feet above mean sea level (msl); (3) an unused 8-foot-wide, 8-foot-high western intake structure fitted with two 4-foot-wide, 6-foot-high sluice gates and an 8-foot-wide, 8-foot-high trashrack, and connected to an 8-foot-wide, 212.1-foot-long sluiceway; (4) an unused 8-foot-wide, 8-foot-high middle intake structure fitted with two 4-foot-wide, 6-foot-high sluice gates and an 8-foot-wide, 8-foot-high trashrack, and connected to an 8-foot-wide, 250.4-foot-long sluiceway; (5) an 18-foot-wide, 8-foot-high eastern intake structure fitted with three 6-foot-wide, 6-foot-high sluice gates and an 18-foot-wide, 8-foot-high trashrack with 1.75-inch bar spacing, that is connected to an 18-foot-wide, 341.1-foot-long sluiceway; (6) a 200-foot-long, 75-foot-wide powerhouse room, located within the Riverdale Mills Corporation manufacturing facility, and containing a 150-kW turbine-generator unit; (7) a tailrace that includes a 214-foot-long arched granite structure with a minimum width of 18 feet, and an 1,800-foot-long, 37.5- to 75-foot-wide excavated channel; (8) a 75-foot-long, 480-volt generator lead that connects the turbine-generator unit to the Riverdale Mills Corporation manufacturing facility; and (9) appurtenant facilities.

Riverdale Power operates the project as a run-of-river facility with an average annual energy production of approximately 162,000 kilowatt-hours. The project bypasses approximately 1,200 feet of the Blackstone River, and there is currently no required minimum instream flow for the bypassed reach. Riverdale Power proposes to continue operating the project in a run-of-river mode, and release a minimum flow of 10 cubic feet per second into the bypassed reach, including leakage from the stanchion stop-logs at the spillway.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at Riverdale Power's office at 130 Riverdale Street, Northbridge, MA 01534.

n. Anyone may submit comments, a protest, or a motion to intervene in accordance with the requirements of the Commission's Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule: The application will be processed according to the following revised schedule. Revisions to the schedule may be made as appropriate.

Milestone | Target date
Filing of interventions, protests, comments, recommendations, preliminary terms and conditions, and preliminary fishway prescriptions | July 2019.
Commission issues Environmental Assessment | November 2019.
Comments on Environmental Assessment | December 2019.

Final amendments to the application must be filed with the Commission no later than 30 days from the issuance date of this notice.

p. A license applicant must file no later than 60 days following the date of issuance of this notice: (1) A copy of the water quality certification; (2) a copy of the request for certification, including proof of the date on which the certifying agency received the request; or (3) evidence of waiver of water quality certification.

Dated: May 8, 2019.
Nathaniel J. Davis, Sr.,
Deputy Secretary.

[FR Doc. 2019-09883 Filed 5-13-19; 8:45 am]

BILLING CODE 6717-01-P